DEPARTMENT OF THE INTERIOR

Bureau of Land Management

[OR-030-1020-PG; G 02-0217]

Meeting Notice for the Southeast Oregon Resource Advisory Council

AGENCY: Bureau of Land Management (BLM), Vale District, Interior.

SUMMARY: The Southeast Oregon Resource Advisory Council (SEORAC) will meet at the Community Center, Christmas Valley, OR 97641 from 8 a.m. to 5 p.m., Pacific Time (PT), on Monday, July 22, 2002, and conduct a field tour to discuss Off Road Vehicle (OHV) issues, on Tuesday, July 23, 2002. Contact the BLM office listed below for exact time as the tour date approaches.

The meeting topics to be discussed by the Council will include a discussion of issues within southeast Oregon related to Steens Mountain Resource Advisory Council, North Lake Recreation Plan, Burns Steens/Andrews Resource Management Plan, Birch Creek, Fire Interface, OHV and Rangeland Assessment. Federal officials' updates, and other matters as may reasonably come before the Council. The entire meeting is open to the public. Information to be distributed to the Council members is requested in written format 10 days prior to the start of the Council meeting. Public comment is scheduled for 11:15 a.m. to 11:45 a.m., Pacific Time on Monday, July 22, 2002.

FOR FURTHER INFORMATION CONTACT: Additional information concerning the SEORAC may be obtained from Peggy Diegan, Support Services Supervisor/Webmaster, Vale District Office, 100 Oregon Street, Vale, OR 97918 (541) 473-3144, or Peggy_Diegan@or.blm.gov or from the following web site: <http://www.or.blm.gov/SEOR-RAC>.

Dated: May 2, 2002.
David R. Henderson,
District Manager.

[FR Doc. 02-12918 Filed 5-22-02; 8:45 am]

BILLING CODE 4310-33-P